COMMISSION ON CIVIL RIGHTS

Notice of Public Meeting of the Massachusetts Advisory Committee

AGENCY: Commission on Civil Rights.

ACTION: Announcement of meeting.

SUMMARY: Notice is hereby given, pursuant to the provisions of the rules and regulations of the U.S. Commission on Civil Rights (Commission), and the Federal Advisory Committee Act (FACA), that a briefing of the Massachusetts Advisory Committee to the Commission will convene via web conference on Tuesday, November 1, 2022, at 12:00 p.m. (ET). The purpose of the briefing is to hear from additional panelists on civil asset forfeiture. The public will have an opportunity to make comments towards the conclusion of the briefing.

Meeting Date: Tuesday, November 1, 2022; at 12:00 p.m. (ET).

Zoom Link (audio/video): https://tinyurl.com/3vtr9tj7.

If Phone Only, Dial: 1-800-360-9505; Meeting ID: 161 046 1872#.

FOR FURTHER INFORMATION CONTACT: Evelyn Bohor at ero@usccr.gov or by phone at 202-921-2212.

SUPPLEMENTARY INFORMATION: This meeting is available to the public through the Zoom link above. If joining only via phone, callers can expect to incur charges for calls they initiate over wireless lines, and the Commission will not refund any incurred charges. Individuals who are deaf, deafblind and hard of hearing may also follow the proceedings by first calling the Federal Relay Service at 1-800-877-8339 and providing the Service with the call-in number found through registering at the web link provided above for the meeting.

Members of the public are entitled to make comments during the open period at the end of the meeting. Members of the public may also submit written comments; the comments must be received in the Regional Programs Unit within 30 days following the respective meeting. Written comments may be emailed to Barbara Delaviez at ero@usccr.gov. Persons who desire additional information may contact the Regional Programs Unit at (202) 809-9618. Records and documents discussed during the meeting will be available for public viewing as they become available at the www.facadatabase.gov. Persons interested in the work of this advisory committee are advised to go to the Commission's website, www.usccr.gov, or to contact the Regional Programs Unit at the above phone number or email address.

Agenda

Tuesday, November 1, 2022; 12:00 p.m. (ET)

1. Welcome and Roll call

2. Chair Remarks

3. Web Briefing; Civil Asset Forfeiture

4. Public Comment

5. Other Business

6. Adjourn

Exceptional Circumstance: Pursuant to 41 CFR 102-3.150, the notice for this meeting is given fewer than 15 calendar days prior to the meeting because of the exceptional circumstances of panelist availability.

Dated: October 21, 2022.
David Mussatt,
Supervisory Chief, Regional Programs Unit.

[FR Doc. 2022-23367 Filed 10-26-22; 8:45 am]

BILLING CODE P